DEPARTMENT OF ENERGY

Environmental Management Site-Specific Advisory Board, Semi-Annual Chairs Meeting

AGENCY: Department of Energy.

ACTION: Notice of Open Meeting.

SUMMARY: This notice announces a meeting of the Environmental Management Site-Specific Advisory Board (EM SSAB), Semi-Annual Chairs Meeting. Federal Advisory Committee Act (Pub. L. 92-463, 86 Stat. 770) requires that public notice of these meetings be announced in the Federal Register.

DATE: Thursday, August 3, 2000—7:30 a.m.-4:30 p.m.; Friday, August 4, 2000—7:30 a.m.-4:30 p.m.; Saturday, August 5, 2000—7:30 a.m.-11:30 a.m.

ADDRESS: The Ambassador Hotel, 3100 I-40 West, Amarillo, TX 79102, 806-358-6161.

FOR FURTHER INFORMATION CONTACT: Martha Crosland, Designated Federal Officer, U.S. Department of Energy, 1000 Independence Avenue, SW, Washington DC, 20585, (202) 586-5793.

SUPPLEMENTARY INFORMATION:

Purpose of the Board: The purpose of the Board is to make recommendations to DOE and its regulators in the areas of future use, cleanup levels, waste disposition and cleanup priorities.

Tentative Agenda

Thursday August 3, 2000: EM SSAB Chairs Meeting (Day 1)

07:30-8:15 a.m. Registration.

08:15-08:45 Opening Remarks/Welcome (Martha Crosland, Director, EM-11 Hqtrs and John Bernier, Deputy Manager, DOE, Amarillo Area Office).

08:45-09:00 Welcoming/Ground Rules (Facilitator).

09:00-11:30 Round robin (limit to 20 min or less/each site). A representative(s) from each SSAB will discuss:

—Site issues of concern.

—Site Ground Water Issues/Technologies.

—Board Outreach to the Community (as requested by Oak Ridge SSAB).

10:00-10:15 Break.

11:30-12:30 Status Update by (David Huizenga, Deputy Assistant Secretary, Deputy Assistant Secretary, Office of Integration and Disposition, DOE Headquarters.

• Integration.

• Transportation.

• Implementation of the Records of Decision for Mixed and Low Level Waste.

• WIPP.

12:30-01:10 Depart Hotel on Bus to Pantex Site for:

01:10-01:35 Introductions.

—Security Briefings.

—Stage Right Videos.

(For this tour you must be a U.S. Citizen, wear shoes with closed toes and show a driver's license or picture ID)

01:35-02:10 Lunch in Building 16-12 (Prepared by Pantex —Cost will be $6.00 per person (includes drinks and dessert)).

02:15-04:00 Board Bus for DOE Pantex Site “Windshield Tour”.

04:15 Return to the Ambassador Hotel to rest and freshen up for the evening show of “Texas”.

06:00 Meet bus at the Hotel for trip to the Palo Duro Canyon for dinner and the show. Prior to this spectacular show, (6-8 pm, a barbeque dinner will be served. Additional cost is $6.50 adults, $5.50 for children and should be paid at that time).

—6:45 Dinner.

—7:45 Seating for show.

—8:00 Showtime ends at 11:00 pm.

Friday August 4, 2000: EM SSAB Chairs Meeting (Day 2)

07:30-08:20 Coffee in meeting room.

08:30-08:45 Opening Remarks—Martha Crosland & Dr. James Hallmark, Facilitator.

08:50-10:00 Ground water Contamination Presentation, Paul Beam, Office of Integration and Disposition, EM-20, DOE, Headquarters).

• Overview presentation on ground water contamination around the complex and remediation of such contamination.

• Discussion of the integration of these issues (problems and solutions) around the complex.

• Discussion of the technologies for characterizing and remediating ground water contamination around the complex.

10:00-10:15 a.m. Break.

10:15-11:30 a.m. Conflict of Interest Discussion (Gregg Burgess, General Counsel, DOE Headquarters) (will include question & answer period).

11:30-12:30 DOE-EM Informational and Status Updates (Martha Crosland).

• SSAB Guidance Document.

• Stewardship Activities.

• NEPA (EIS/EA) Status Updates.

• National Nuclear Security Administration.

• Environmental Management Advisory Board.

12:30-02:00 p.m. Lunch.

02:00-02:30 Pantex case study—what is being done to solve the problem (likely to be given by State of Texas regulators and by site representative).

02:30-02:45 Break.

03:00-03:45 SSAB Common Values (Martha Crosland, Director, EM-11).

• Discussion and finalization of SSAB Common Values.

04:00-04:30 Wrap up Day 2 session—(Dr. Hallmark).

Saturday, August 5, 2000, EM SSAB Chairs Meeting (Day 3)

07:30-08:20 Coffee (meeting room).

08:30-08:45 Opening Remarks (Martha Crosland & Dr. Hallmark).

08:45-09:30 Planning for Rocky Flats SSAB Stewardship Workshop Ken Korkia, Rocky Flats Advisory Board.

09:30-09:45 Break.

10:00-10:30 General discussion items: Martha Crosland.

—Location and subject of the next SSAB Chairs' Meeting.

—Future EM SSAB Seminars/Workshops.

—New business.

10:30-11:00 Public comment period.

11:00-11:30 Closing remarks/wrap-up session (Dr. Hallmark).

11:35 Meeting adjournment (Martha Crosland).

(Agenda topics may change up to the day of the meeting; please call the FOR FURTHER INFORMATION CONTACT in this notice for the current agenda)

Public Participation: This meeting is open to the public. Written statements may be filed with the Board facilitator before or after the meeting. Individuals who wish to make oral presentations pertaining to agenda items should contact the Board Chair at their specific site, or Fred Butterfield at the address listed above. Requests must be received 5 days prior to the meeting and reasonable provision will be made to include the presentation in the agenda. The Designated Federal Officer, Martha Crosland, U.S. Department of Energy, is empowered to conduct the meeting in a fashion that will facilitate the orderly conduct of business.

Minutes: A written summary of this meeting will be available for public review and copying at the Freedom of Information Public Reading Room, 1E-190, Forrestal Building, 1000 Independence Avenue, SW, Washington, DC 20585 between 9:00 a.m. and 4:00 p.m., Monday-Friday, except Federal holidays. The meeting summary will also be available by writing the EM-SSAB Chair or Designated Deputy Federal Officer of every EM-SSAB that participated in the meeting.

Issued at Washington, DC on July 11, 2000.
Rachel Samuel,
Deputy Advisory Committee Management Officer.

[FR Doc. 00-18005 Filed 7-14-00; 8:45 am]

BILLING CODE 6450-01-P